DEPARTMENT OF STATE

[Public Notice 11143]

30-Day Notice of Proposed Information Collection: Annual Report—J-NONIMMIGRANT Exchange Visitor Program

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this notice is to allow 30 days for public comment.

DATES: Submit comments up to July 24, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Direct requests for additional information regarding the collection listed in this notice, including requests for copies of the proposed collection instrument and supporting documents, to G. Kevin Saba, who may be reached on (202) 634-4710 or at JExchanges@state.gov.

SUPPLEMENTARY INFORMATION:

• Title of Information Collection: Annual Report—J-NONIMMIGRANT Exchange Visitor Program.

• OMB Control Number: 1405-0151.

• Type of Request: Revision of a Currently Approved Collection.

• Originating Office: Bureau of Educational and Cultural Affairs, Office of Private Sector Exchange, ECA/EC.

• Form Number: Form DS-3097.

• Respondents: Designated J-NONIMMIGRANT program sponsors.

• Estimated Number of Respondents: 1,500.

• Estimated Number of Responses: 1,500.

• Average Hours per Response: 2 hours.

• Total Estimated Burden: 3,000 hours.

• Frequency: Annually.

• Obligation to Respond: Required to Obtain or Retain Benefits.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Abstract of Proposed Collection

Annual reports from designated program sponsors assist the Department in oversight and administration of the J-NONIMMIGRANT Exchange Visitor Program. The reports provide qualitative data on the number of exchange participants an organization sponsored annually per category of exchange. The reports also provide a summary of the activities in which exchange visitors were engaged and indicate information about program effectiveness. Program sponsors include government agencies, academic institutions, and private sector not-for-profit and for-profit entities.

Methodology

Annual reports are completed through the Student and Exchange Visitor Information System (SEVIS) and then printed and signed by a sponsor official, and sent to the Department by email, mail, or fax.

Zachary Parker,
Director.

[FR Doc. 2020-13591 Filed 6-23-20; 8:45 am]

BILLING CODE 4710-05-P